DEPARTMENT OF THE INTERIOR

Fish and Wildlife Service

50 CFR Parts 25 and 32

RIN 1018-AI34

2002-2003 Refuge-Specific Hunting and Sport Fishing Regulations

AGENCY: Fish and Wildlife Service, Interior.

ACTION: Final rule.

SUMMARY: The Fish and Wildlife Service (we or the Service) add seven additional refuges to the list of areas open for hunting and/or sport fishing activities and increase the activities available at eight other refuges, along with pertinent refuge-specific regulations for such activities, and amend certain regulations on other refuges that pertain to migratory game bird hunting, upland game hunting, big game hunting, and sport fishing for 2002-2003.

DATES: This rule is effective September 18, 2002.

FOR FURTHER INFORMATION CONTACT: Leslie A. Marler, (703) 358-2397; Fax (703) 358-2248.

SUPPLEMENTARY INFORMATION: The National Wildlife Refuge System Administration Act of 1966 closes national wildlife refuges to all uses until opened. The Secretary of the Interior (Secretary) may open refuge areas to any use, including hunting and/or fishing, upon a determination that such uses are compatible with the purposes of the refuge. The action also must be in accordance with provisions of all laws applicable to the areas, developed in coordination with the appropriate State fish and wildlife agency(ies), consistent with the principles of sound fish and wildlife management and administration, and otherwise in the public interest. These requirements ensure that we maintain the biological integrity, diversity, and environmental health of the National Wildlife Refuge System (System) for the benefit of present and future generations of Americans.

We annually review refuge hunting and fishing programs to determine whether to include additional refuges or whether individual refuge regulations governing existing programs need modifications, deletions, or additions made to them. Changing environmental conditions, State and Federal regulations, and other factors affecting fish and wildlife populations and habitat may warrant modifications to refuge-specific regulations to ensure the continued compatibility of hunting and fishing programs and that these programs will not materially interfere with or detract from the fulfillment of the purposes of the refuge or the System's mission.

You may find provisions governing hunting and fishing on national wildlife refuges in Title 50 of the Code of Federal Regulations in part 32. We regulate hunting and fishing on refuges to:

• Ensure compatibility with the purpose(s) of the refuge;

• Properly manage the fish and wildlife resource;

• Protect other refuge values;

• Ensure refuge visitor safety; and

• Provide opportunities for quality recreational and educational experiences.

On many refuges where we decide to allow hunting and fishing, our general policy of adopting regulations identical to State hunting and fishing regulations is adequate in meeting these objectives. On other refuges, we must supplement State regulations with more restrictive Federal regulations to ensure that we meet our management responsibilities, as outlined under the section entitled “Statutory Authority.” We issue refuge-specific hunting and sport fishing regulations when we open wildlife refuges to either migratory game bird hunting, upland game hunting, big game hunting, or sport fishing. These regulations list the wildlife species that you may hunt or those species subject to sport fishing, seasons, bag limits, methods of hunting or fishing, descriptions of areas open to hunting or fishing, and other provisions as appropriate. You may find previously issued refuge-specific regulations for hunting and fishing in 50 CFR part 32. In this rulemaking, we are promulgating many of the amendments to these sections to standardize and clarify the existing language of these regulations.

Plain Language Mandate

In this rule some of the revisions to the individual refuge units are to comply with a Presidential mandate to use plain language in regulations and do not modify the substance of the previous regulations. These types of changes include using “you” to refer to the reader and “we” to refer to the Service, using the word “allow” instead of “permit” when we do not require the use of a permit for an activity, and using active voice.

Statutory Authority

The National Wildlife Refuge System Administration Act (Administration Act) of 1966 (16 U.S.C. 668dd-668ee, as amended), and the Refuge Recreation Act (Recreation Act) of 1962 (16 U.S.C. 460k-460k-4) govern the administration and public use of national wildlife refuges.

Amendments enacted by the National Wildlife Refuge System Improvement Act of 1997 (Improvement Act) amend and build upon the Administration Act in a manner that provided an “organic act” for the System similar to those that exist for other public Federal lands. The Act serves to ensure that we effectively manage the System as a national network of lands, waters, and interests for the protection and conservation of our Nation's wildlife resources. The Improvement Act states first and foremost that we focus the mission of the System on conservation of fish, wildlife, and plant resources and their habitats. The Improvement Act requires the Secretary, before allowing a new use of a refuge, or before expanding, renewing, or extending an existing use of a refuge, to determine that the use is compatible and promotes public safety. The Improvement Act established as the policy of the United States that wildlife-dependent recreation, when compatible, is a legitimate and appropriate public use of the System, through which the American public can develop an appreciation for fish and wildlife. The Improvement Act established six wildlife-dependent recreational uses, when compatible, as the priority general public uses of the System. Those uses are: hunting, fishing, wildlife observation and photography, and environmental education and interpretation.

The Recreation Act authorizes the Secretary to administer areas within the System for public recreation as an appropriate incidental or secondary use only to the extent that doing so is practicable and not inconsistent with the primary purpose(s) for which Congress and the Service established the areas. The Recreation Act requires that any recreational use of refuge lands be compatible with the primary purpose(s) for which we established the refuge and not inconsistent with other previously authorized operations.

The Administration Act and Recreation Act also authorize the Secretary to issue regulations to carry out the purposes of the acts and regulate uses.

We develop hunting and sport fishing plans for each refuge prior to opening it to hunting or fishing. In many cases, we develop refuge-specific regulations to ensure the compatibility of the program(s) with the purpose(s) for which we established the refuge. We have ensured initial compliance with the Administration Act and the Recreation Act for hunting and sport fishing on newly acquired refuges through an interim determination of compatibility made at or near the time of acquisition. These regulations ensure that we make the determinations required by these acts prior to adding refuges to the lists of areas open to hunting and fishing in 50 CFR part 32. We ensure continued compliance through the development of comprehensive conservation plans, hunting and sport fishing plans, and annual review of hunting and sport fishing programs and regulations.

In preparation for new openings, we include the following documents in the refuges' “opening package” (which the Region completes, the Regional Director signs, and then the Region sends a copy to Headquarters Office): (1) Step-down hunting and/or fishing management plan; (2) appropriate National Environmental Policy Act (NEPA) documentation, (Categorical Exclusion, Environmental Assessment, or Environmental Impact Statement); (3) appropriate decision documentation (e.g., Finding of No Significant Impact, Record of Decision [ROD]); (4) section 7 Endangered Species Act evaluation; (5) copies of letters requesting State and, where appropriate, Tribal involvement and the results of the request; (6) draft news release; (7) outreach plan; and (8) draft refuge-specific regulation(s).

Response to Comments Received

In the June 20, 2002, Federal Register (67 FR 41920), we published a proposed rulemaking identifying the refuges and their proposed hunting and/or fishing programs and invited public comments. We reviewed and considered all comments following a 30-day comment period.

We received multiple comments from six different commenters on the proposed rule: five commenters were individuals, and one commenter was a nongovernmental organization. Four commenters strongly supported the proposed rule.

Comment: Three commenters expressed opposition to opening refuges to hunting and fishing and believe refuges should be places offering protection and shelter and feel that hunting “unbalances the natural order of things and has a negative effect on all nongame as well.” A commenter felt that the “primary purpose of a refuge is conservation” and did not feel that allowing/extending hunting and fishing on refuges will aid in the conservation of wildlife. The same commenter feels we violate the mandate of the “National Wildlife Refuge Act, the Endangered Species Act, and the National Environmental Policy Act.”

Response: The National Wildlife Refuge System Administration Act of 1966 authorizes the Secretary to allow uses of any refuge area as long as those uses are compatible; and, in fact, the Act specifically references hunting and fishing. Recent amendments to the National Wildlife Refuge System Administration Act made by the National Wildlife Refuge System Improvement Act of 1997 (Improvement Act) establish wildlife-dependent recreational uses as priority uses and include hunting and fishing in the definition of those uses.

The principal focus of the Improvement Act was to clearly establish a wildlife conservation mission for the System and provide managers clear direction to make determinations regarding wildlife conservation and public uses within the units of the System. The Service manages national wildlife refuges primarily for wildlife conservation, habitat protection, and biological integrity and allows uses only when compatible with the refuge purpose(s). In passing the Improvement Act, Congress reaffirmed the System was created to conserve fish, wildlife, plants, and their habitats and would facilitate opportunities for Americans to participate in compatible wildlife-dependent recreation, including hunting and/or fishing on System lands. The Service has adopted policies and regulations implementing the requirements of the Improvement Act that refuge managers comply with when considering hunting and fishing programs.

Additionally, we review all hunting programs annually to determine if they may affect, adversely or beneficially, threatened or endangered species and their habitat. The refuge manager will initiate consultation, as appropriate, in accordance with Section 7 of the Endangered Species Act and intra-Service consultation procedures and will take actions necessary to ensure the programs will not jeopardize listed species.

We further address compliance with the National Environmental Policy Act in the last comment below.

Comment: Two commenters asked that we add language to “include approved hunting methods by falconry for small game and upland/migratory birds. [And to] * * * remove or clarify reference to domesticated animals or pets so as to leave no opportunity to misinterpret the possession of a hawk or falcon for use in hunting.”

Response: Falconry is a form of hunting (or take) regulated under State law and, if deemed appropriate and compatible, refuge managers may allow. We do not believe it is necessary to specify particular hunting methods in this rule. Because falconry is an alternative form of hunting, we must be cognizant of other hunting programs and potential conflicts between them when making the decision to provide that opportunity. As discussed in the response to the first comment, when developing a CCP for each refuge, the refuge manager examines the overarching decision of refuge management when determining whether or not to allow hunting. When preparing a refuge's individual hunting plans each refuge manager would need to make the decision to allow falconry strictly on a case-by-case basis.

As noted above, falconry is a form of hunting and because of that it is not necessary to specifically state that a hawk or falcon used in hunting is not a “domesticated animal or pet.” On some refuges, we allow the use of dogs as part of hunting activities on the refuge during the waterfowl season. Existing System policy directs the refuge manager to carefully consider the impacts of dogs on the refuge, refuge wildlife management objectives, and the activities allowed by the State when evaluating the compatibility of hunting dog use. The refuge manager may allow “other domesticated animals or pets” on a refuge-specific basis, again, based on appropriateness and compatibility. If a refuge manager determined that hunting dogs or other domesticated animals or pets or falconry would be both appropriate and compatible, 50 CFR part 32 would reflect that we allow their presence on refuges.

Comment: One commenter felt that we did not “pay appropriate deference to the Administrative Procedure Act” (APA) in that we allowed only 30 days for public comment and asked that we extend the comment period for an additional 30 days.

Response: The APA requires that agencies provide an opportunity for the public to participate in rulemaking by submitting written data, views, or arguments, and we make every effort to maximize that opportunity. The Refuge-Specific Hunting and Sport Fishing Regulations are an annual process, and we have routinely published the proposed rule each summer with a 30-day comment period. It has been our experience that this time period has worked satisfactorily. We make every attempt to collect all of the proposals from refuges nationwide and process them expeditiously to maximize the time available for public review. As we stated in the proposed rule, by providing a 30-day comment period, we are trying to avoid jeopardizing the establishment of hunting and fishing programs this year (two of the six priority uses established by the Improvement Act) or shortening their duration while giving sufficient time for public participation. Many of these rules also relieve restrictions and allow the public to participate in recreational activities on a number of refuges. Even after issuance of a final rule, we accept comments, suggestions, and concerns for consideration for any appropriate subsequent rulemaking.

Comment: Regarding adopting and issuing season dates and times only after the State establishes its hunting seasons, one commenter questioned, “* * * how can one know the effect that hunting and fishing will have on wildlife?”

Response: As discussed in response to the first comment, in preparation for opening a refuge for hunting or fishing, refuge managers conduct extensive analysis of the impact we believe that activity will have on the resource. At the end of each season, we review all hunting programs and make adjustments accordingly in successive years to avoid a negative impact.

Comment: A commenter questioned whether we prepare an Environmental Impact Statement (EIS) in accordance with NEPA before opening a refuge to hunting and/or fishing. They also feel it is incorrect to say that this rule does not constitute a major Federal action significantly affecting the quality of the human environment.

Response: We stand by our statement that this rule does not constitute a major Federal action significantly affecting the quality of the human environment. This rule is simply a compilation of refuge-specific information. Each of the individual refuges, when making their determinations as to whether or not to allow hunting and/or fishing, comply with NEPA (Categorical Exclusion, Environmental Assessment, or an Environmental Impact Statement), as appropriate, when they are preparing “opening packages.”

Effective Date

This rule is effective upon publication in the Federal Register. We have determined that any further delay in implementing these refuge-specific hunting and sport fishing regulations would not be in the public interest, in that a delay would hinder the effective planning and administration of the hunting and fishing programs. We provided a 30-day comment period for the June 20, 2002, proposed rule. An additional delay would jeopardize holding the hunting and/or fishing programs this year or shorten their duration and thereby lessen the management effectiveness of this regulation. These rules do not impact the public generally in terms of requiring lead time for compliance. Rather they relieve restrictions in that they allow activities on refuges that we would otherwise prohibit. Therefore, we find good cause under 5 U.S.C. 553 (d)(3) to make this rule effective upon publication.

In accordance with the Administration Act and Recreation Act, we have determined that these openings are compatible and consistent with the purpose(s) for which we established the respective refuges. A copy of the compatibility determinations for these respective refuges is available by request to the Regional contact noted under the heading “Available Information for Specific Refuges.”

We allow the following wildlife-dependent recreational uses:

Hunting of migratory game birds on seven refuges, including:

• Bayou Teche National Wildlife Refuge, Louisiana

• Black Bayou Lake National Wildlife Refuge, Louisiana

• Cat Island National Wildlife Refuge, Louisiana

• Catahoula National Wildlife Refuge, Louisiana

• Marais des Cygnes National Wildlife Refuge, Kansas

• Trinity River National Wildlife Refuge, Texas

• Whittlesey Creek National Wildlife Refuge, Wisconsin

Hunting of upland game on five refuges, including:

• Bayou Teche National Wildlife Refuge, Louisiana

• Black Bayou Lake National Wildlife Refuge, Louisiana

• Cat Island National Wildlife Refuge, Louisiana

• Lost Trail National Wildlife Refuge, Montana

• Okefenokee National Wildlife Refuge, Georgia

Big game hunting on eight refuges, including:

• Bayou Teche National Wildlife Refuge, Louisiana

• Black Bayou Lake National Wildlife Refuge, Louisiana

• Cat Island National Wildlife Refuge, Louisiana

• Lost Trail National Wildlife Refuge, Montana

• Occoquan Bay National Wildlife Refuge, Virginia

• Rappahannock River Valley National Wildlife Refuge, Virginia

• Wallops Island National Wildlife Refuge, Virginia

• Washita National Wildlife Refuge, Oklahoma

Sport fishing on three refuges, including:

• Bayou Teche National Wildlife Refuge, Louisiana

• Cat Island National Wildlife Refuge, Louisiana

• Rydell National Wildlife Refuge, Minnesota

We also make several administrative changes. In § 25.41 we clarify that refuge managers have the authority to issue permits required by subchapter C of 50 CFR. In § 25.43 we clarify that refuge managers may terminate or revoke permits. These two changes do not alter our current practice but rather explicitly state the delegation to the refuge manager. In § 32.2(f) we revise the section designation in the last sentence of the paragraph of the refuge-specific regulations from §§ 32.20 through 32.71 to read §§ 32.20 through 32.72 to reflect the addition of Guam at § 32.72. In § 32.2(f), § 32.3(e), § 32.5(e), § 32.6(e), and the introductory text of § 32.7, we revise the section designations to reflect the addition of Guam. Additionally in § 32.3(e) we explain that the refuge manager may adopt and issue relevant refuge-specific season dates and times after the State establishes its hunting seasons by publication through one or more of the methods identified in 50 CFR 25.31 We authorize this limited departure from the existing process because seasons are set too late in the year for us to include in our annual regulations. In § 32.2(l) we reiterate that in addition to adopting the various items enumerated in the refuge-specific regulations (§ 32.20 through § 32.72), we will continue to notify the public of those items described in refuge permits and brochures available at that area's headquarters.

We incorporate this regulation into 50 CFR parts 25 and 32. Part 32 contains general provisions and refuge-specific regulations for hunting and sport fishing on national wildlife refuges. Part 25 contains the administrative provisions for the National Wildlife Refuge System.

Regulatory Planning and Review

In accordance with the criteria in Executive Order 12866, the Service asserts that this rule is not a significant regulatory action. The Office of Management and Budget (OMB) makes the final determination under Executive Order 12866 and concurs with our designation of nonsignificance for this rule.

a. This rule will not have an annual economic effect of $100 million or adversely affect an economic sector, productivity, jobs, the environment, or other units of the government. A cost-benefit and full economic analysis is not required. The purpose of this rule is to open 15 refuges to hunting and/or fishing activities. Eight of these refuges are already open to certain activities, and the remaining seven refuges will open to hunting and/or fishing activities for the first time. The refuges are located in the States of Virginia, Montana, Louisiana, Wisconsin, Oklahoma, Texas, New Mexico, Kansas, Minnesota, and Georgia. Fishing and hunting are two of the wildlife-dependent uses of national wildlife refuges that Congress recognizes as legitimate and appropriate, and we should facilitate their pursuit, subject to such restrictions or regulations as may be necessary to ensure their compatibility with the purpose of each refuge. Many of the 538 existing national wildlife refuges already have programs where we allow fishing and hunting. Not all refuges have the necessary resources that would make fishing and hunting opportunities available to the public. By opening these refuges to new activities, we have determined that we can make quality experiences available to the public. This rule establishes hunting and/or fishing programs at the following refuges: Occoquan Bay, Rappahannock River Valley, Wallops Island, Lost Trail, Bayou Teche, Cat Island, Catahoula, Whittlesey Creek, Washita, Trinity River, Bosque del Apache, Marais des Cygnes, Rydell, Okefenokee, and Black Bayou Lake. We state impacts in 2001 real dollars.

Following a best case scenario, if the refuges establishing new fishing and hunting programs were a pure addition to the current supply of such activities, it would mean a consumer surplus of $706,000 annually and an estimated increase of 10,320 user days of hunting and 575 user days of fishing (Table 1). However, the participation trend is flat in fishing and hunting activities because the number of Americans participating in these activities has been stagnant since 1991. Any increase in the supply of these activities introduced by adding refuges where the activity is available will most likely be offset by other sites losing participants, especially if the new sites have higher quality fishing and/or hunting opportunities. Using the value of the difference in the upper and lower bounds of the 95 percent confidence interval for average consumer surplus to represent the estimate of the increase in consumer surplus for higher quality fishing and hunting (Walsh, Johnson, and McKean, 1990) ¹ yields an estimated increase in consumer surplus of $185,000 annually. Consequently, this rule will have a small measurable economic benefit on the U.S. economy.

¹ Article presented at the Western Regional Science Association Annual meeting in Molokai, Hawaii, on February 22, 1990.

Table 1.—Estimated Changes in Consumer Surplus From Additional Hunting and Fishing Opportunities in 2002
Refuge | Additional fishing days | Additional hunting days | Fishing and hunting combined
Occoquan Bay |  | 50 | 50
Rappahannock River Valley |  | 500 | 500
Wallops Island |  | 30 | 30
Lost Trail |  | 2,000 | 2,000
Bayou Teche | 25 | 75 | 100
Cat Island | 250 | 750 | 1,000
Catahoula |  | 2,000 | 2,000
Whittlesey Creek |  | 100 | 100
Washita |  | 50 | 50
Trinity River |  | 675 | 675
Bosque del Apache |  | 90 | 90
Marais des Cygnes |  | 500 | 500
Rydell | 300 |  | 300
Okefenokee |  | 500 | 500
Black Bayou Lake |  | 3,000 | 3,000
Total Days per Year | 575 | 10,320 | 10,895
Consumer Surplus per Day | $61.19 | $64.99 |
Consumer Surplus for Quality Change | 23.23 | 16.62 |
Change in Total Consumer Surplus | 35,184 | 670,736 | 705,921
Change in Quality Consumer Surplus | 13,357 | 171,505 | 184,862
Note: All estimates are stated in 2001 real dollars.

b. This rule will not create inconsistencies with other agencies' actions. This action pertains solely to the management of the National Wildlife Refuge System.

c. This rule will not materially affect entitlements, grants, user fees, loan programs, or the rights and obligations of their recipients. This rule does not affect entitlement programs. There are no grants or other Federal assistance programs associated with public use of national wildlife refuges.

d. This rule will not raise novel legal or policy issues. This rule opens seven additional refuges for fishing and hunting activities and increases the activities available at eight other refuges. This rule continues the practice of allowing recreational public use of national wildlife refuges. Many refuges in the System currently have opportunities for the public to hunt and fish on refuge lands.

Regulatory Flexibility Act

We certify that this rule will not have a significant economic effect on a substantial number of small entities as defined under the Regulatory Flexibility Act (5 U.S.C. 601 et seq.). A Regulatory Flexibility Analysis is not required. Accordingly, a Small Entity Compliance Guide is not required.

This rule does not increase the types of recreation allowed on the System but establishes hunting and/or fishing programs on 15 refuges. As a result, opportunities for wildlife-dependent recreation on national wildlife refuges will increase. The changes in the amount of permitted use are likely to increase visitor activity on these national wildlife refuges.

For purposes of analysis, we will assume that any increase in refuge visitation is a pure addition to the supply of the available activity. This will result in a best case scenario, and we expect to overstate the benefits to local businesses. The latest information on the distances traveled for fishing and hunting activities indicates that over 80 percent of the participants travel less than 100 miles from home to engage in the activity. This indicates that participants will spend travel-related expenditures in their local economies. Since participation is scattered across the country, many small businesses benefit. The 1996 National Survey of Fishing, Hunting, and Wildlife Associated Recreation identifies expenditures for food and lodging, transportation, and other incidental expenses. Using the average expenditures for these categories with the expected maximum additional participation on the Refuge System as a result of this rule yields the following estimates (Table 2) compared to total business activity for these sectors.

Table 2.—Estimation of the Additional Expenditures With an Increase of Activities in Eight Refuges and the Opening of Seven Refuges to Hunting and/or Fishing for 2002
| U.S. total expenditures in 1996 | Average expend. per day | Current refuge expenditures w/o duplication | Possible additional refuge expenditures
ANGLERS
Total Days Spent | 626 Mil | — | 6.7 Mil | 575
Total Expenditures | $42.7 Bil | $68 | $456.2 Mil | $39,194
Trip Related | $17.4 Bil | $28 | $185.7 Mil | $15,950
Food and Lodging | $6.8 Bil | $11 | $72.3 Mil | $6,211
Transportation | $4.2 Bil | $7 | $45.0 Mil | $3,868
Other | $6.4 Bil | $10 | $68.3 Mil | $5,871
HUNTERS
Total Days Spent | 257 Mil |  | 2.0 Mil | 10,320
Total Expenditures | $23.3 Bil | $91 | $182.4 Mil | $935,492
Trip Related | $5.8 Bil | $23 | $45.6 Mil | $233,962
Food and Lodging | $2.8 Bil | $11 | $22.2 Mil | $114,007
Transportation | $2.0 Bil | $8 | $15.7 Mil | $80,761
Other | $1.0 Bil | $4 | $7.6 Mil | $39,194
Note: All estimates are in 2001 real dollars.

Using a national impact multiplier for wildlife-associated recreation developed for the report “1996 National and State Economic Impacts of Wildlife Watching” for the estimated increase in direct expenditures yields a total economic impact of over $2.8 million (2001 dollars). Since we know that most of the fishing and hunting occur within 100 miles of a participant's residence, then it is unlikely that most of this spending would be “new” money coming into a local economy and, therefore, would be offset with a decrease in some other sector of the local economy. The net gain to the local economies would be no more than $2.8 million and most likely considerably less. Since 80 percent of the participants travel less than 100 miles to engage in hunting and fishing activities, their spending patterns would not add new money into the local economy and, therefore, the real impact would be on the order of $570,000 annually. The maximum increase (if all spending were new money) at most would be less than 1 percent for local retail trade spending (Table 3).

A large percentage of the retail trade establishments in the majority of affected counties qualify as small businesses. With the small increase in overall spending anticipated from this rule, it is unlikely that a substantial number of small entities will have more than a small benefit from the increased recreationist spending near the affected refuges.

Table 3.—Comparative Expenditures for Retail Trade Associated with Additional Refuge Visitation for 2002
Refuge/county(ies) | Retail trade in 1997 (2001 dollars) | Estimated maximum addition from new refuge | Addition as a percent of total | Total retail establ. | Establ. with < 10 emp.
Occoquan Bay, Prince William, VA | $283 Mil | $4,550 | 0.002 | 915 | 560
Rappahannock River Valley, Northumberland, VA | $4.9 Mil | 45,500 | 0.93 | 54 | 45
Wallops Island, Accomack, VA | $199 Mil | 2,730 | 0.001 | 208 | 152
Lost Trail, Flathead, MT | $768 Mil | 182,000 | 0.02 | 475 | 398
Bayou Teche, St. Mary, LA | $437 Mil | 8,525 | 0.002 | 256 | 176
Cat Island, Avoyelles, LA | $234 Mil | 85,250 | 0.04 | 169 | 129
Catahoula |  | 182,000 | 0.13 |  |
LaSalle, LA, | $75 Mil |  |  | 64 | 49
Catahoula, LA | $69 Mil |  |  | 52 | 33
Whittlesey Creek, Ashland, WI | $165 Mil | 9,100 | 0.01 | 113 | 87
Washita Custer, OK | $259 Mil | 4,550 | 0.002 | 172 | 119
Trinity River, Liberty, TX | $487 Mil | 61,425 | 0.01 | 204 | 151
Bosque del Apache, Socorro, NM | $78 Mil | 8,190 | 0.01 | 57 | 40
Marais des Cygnes, Linn, KS | $33 Mil | 45,500 | 0.14 | 34 | 27
Rydell, Polk, MN | $234 Mil | 20,400 | 0.01 | 152 | 97
Okefenokee, Charlton, GA | $35 Mil | 45,500 | 0.13 | 49 | 47
Black Bayou Lake, Ouachita, LA | $1.6 Bil | 273,000 | 0.02 | 753 | 519

Many small businesses may benefit from some increased wildlife refuge visitation. However, we expect that much of this benefit will be offset as recreationists spend the same money in a different location. We expect that the incremental recreational opportunities will be scattered, and so we do not expect that the rule will have a significant economic effect (benefit) on a substantial number of small entities in any region or nationally.

Small Business Regulatory Enforcement Fairness Act

This is not a major rule under 5 U.S.C. 804(2), the Small Business Regulatory Enforcement Fairness Act. This rule:

a. Does not have an annual effect on the economy of $100 million or more. The additional hunting and fishing opportunities at the 15 refuges that do not currently have these programs would generate expenditures by hunters and anglers with an economic impact estimated at $2.8 million per year (2001 dollars). Consequently, the maximum benefit of this rule for businesses both small and large would not be sufficient to make this a major rule. The impact would be scattered across the country and would most likely not be significant in any local area.

b. Will not cause a major increase in costs or prices for consumers, individual industries, Federal, State, or local government agencies, or geographic regions. This rule will have only a slight effect on the costs of hunting and fishing opportunities of Americans. Under the assumption that any additional hunting and fishing opportunities would be quality experiences, participants would be attracted to the refuge. If the refuge were closer to the participants' residences, then a reduction in travel costs would occur and benefit the participants. The Service does not have information to quantify this reduction in travel cost but assumes that, since most people travel less than 100 miles to hunt and fish, the reduced travel cost would be small for the additional days of hunting and fishing generated by this rule. We do not expect this rule to affect the supply or demand for hunting and fishing opportunities in the United States and, therefore, it should not affect prices for hunting and fishing equipment and supplies, or the retailers that sell equipment.

c. Does not have significant adverse effects on competition, employment, investment, productivity, innovation, or the ability of United States-based enterprises to compete with foreign-based enterprises. This rule adds seven refuges to the list of refuges that have hunting and/or fishing programs and increases the type of activities offered at eight other refuges. Refuges that establish hunting and fishing programs may hire additional staff from the local community to assist with the programs, but this would not be a significant increase with only seven refuges adding new programs and eight refuges increasing programs by this rule. Consequently, we anticipate no significant employment or small business effects.

Unfunded Mandates Reform Act

Since this rule applies to public use of federally owned and managed refuges, it does not impose an unfunded mandate on State, local, or Tribal governments or the private sector of more than $100 million per year. The rule does not have a significant or unique effect on State, local, or Tribal governments or the private sector. A statement containing the information required by the Unfunded Mandates Reform Act (2 U.S.C. 1531 et seq.) is not required.

Takings (Executive Order 12630)

In accordance with Executive Order 12630, the rule does not have significant takings implications. This regulation will affect only visitors at national wildlife refuges and describe what they can do while they are on a refuge.

Federalism (Executive Order 13132)

As discussed in the Regulatory Planning and Review and Unfunded Mandates Reform Act sections above, this rule does not have sufficient federalism implications to warrant the preparation of a Federalism Assessment under Executive Order 13132. In preparing this rule, we worked with State governments.

Civil Justice Reform (Executive Order 12988)

In accordance with Executive Order 12988, the Office of the Solicitor has determined that the rule does not unduly burden the judicial system and meets the requirements of sections 3(a) and 3(b)(2) of the Order. The regulation will clarify established regulations and result in better understanding of the regulations by refuge visitors.

Energy Supply, Distribution or Use (Executive Order 13211)

On May 18, 2001, the President issued Executive Order 13211 on regulations that significantly affect energy supply, distribution, and use. Executive Order 13211 requires agencies to prepare Statements of Energy Effects when undertaking certain actions. Because this rule opens 15 refuges to hunting and/or sport fishing programs and makes minor changes to other refuges open to those activities, it is not a significant regulatory action under Executive Order 12866 and is not expected to significantly affect energy supplies, distribution, and use. Therefore, this action is a not a significant energy action and no Statement of Energy Effects is required.

Consultation and Coordination With Indian Tribal Governments (Executive Order 13175)

In accordance with Executive Order 13175, we have evaluated possible effects on federally recognized Indian tribes and have determined that there are no effects. We coordinate recreational use on national wildlife refuges with Tribal governments having adjoining or overlapping jurisdiction before we propose the regulations. This regulation is consistent with and not less restrictive than Tribal reservation rules.

Paperwork Reduction Act

This regulation does not contain any information collection requirements other than those already approved by the Office of Management and Budget under the Paperwork Reduction Act (OMB Control Number is 1018-0102). See 50 CFR 25.23 for information concerning that approval. An agency may not conduct or sponsor and a person is not required to respond to a collection of information unless it displays a currently valid OMB control number.

Endangered Species Act Section 7 Consultation

We reviewed the changes in hunting and fishing regulations herein with regard to Section 7 of the Endangered Species Act of 1973 (16 U.S.C. 1531-1543, as amended) (ESA). For the national wildlife refuges to open for hunting and/or fishing we have determined that Rappahannock River Valley, Trinity River, Bosque del Apache, Okefenokee, and Bayou Teche National Wildlife Refuges will not likely adversely affect and Catahoula, Washita, Rydell, Marais des Cygnes, Black Bayou Lake, Cat Island, Occoquan Bay, Whittlesey Creek, Lost Trail, and Wallops Island National Wildlife Refuges will not affect any endangered or threatened species or designated critical habitat.

We also comply with Section 7 of the ESA when developing comprehensive conservation plans, step-down management plans for public use of refuges, and prior to implementing any new or revised public recreation program on a refuge as identified in 50 CFR 26.32. We also make determinations when required by the ESA before the addition of a refuge to the lists of areas open to hunting or fishing as contained in 50 CFR 32.7.

National Environmental Policy Act of 1969

We analyzed this rule in accordance with the criteria of NEPA (42 U.S.C. 4332(C)) and 516 DM 6, Appendix 1. This rule does not constitute a major Federal action significantly affecting the quality of the human environment. An environmental impact statement/assessment is not required.

A categorical exclusion from NEPA documentation applies to this amendment of refuge-specific hunting and fishing regulations since it is technical and procedural in nature.

Prior to the addition of a refuge to the list of areas open to hunting and/or fishing in 50 CFR part 32, we develop a hunting and/or fishing plan for the affected refuge. We incorporate these refuge hunting and fishing activities in the refuge CCPs and/or other step-down management plans, pursuant to our refuge planning guidance in 602 FW 1, 3, and 4. We prepare CCPs and step-down plans in compliance with section 102(2)(C) of NEPA, and the Council on Environmental Quality's regulations for implementing NEPA in 40 CFR parts 1500-1508. We invite the affected State fish and wildlife agency(ies) and public to participate in the review, development, and implementation of these plans.

Available Information for Specific Refuges

Individual refuge headquarters retain information regarding public use programs and the conditions that apply to their specific programs and maps of their respective areas. You may also obtain information from the Regional offices at the addresses listed below:

Region 1—California, Hawaii, Idaho, Nevada, Oregon, and Washington. Regional Chief, National Wildlife Refuge System, U.S. Fish and Wildlife Service, Eastside Federal Complex, 911 N.E. 11th Avenue, Portland, Oregon 97232-4181; Telephone (503) 231-6214.

Region 2—Arizona, New Mexico, Oklahoma, and Texas. Regional Chief, National Wildlife Refuge System, U.S. Fish and Wildlife Service, P.O. Box 1306, 500 Gold Avenue, Albuquerque, New Mexico 87103; Telephone (505) 248-6804.

Region 3—Illinois, Indiana, Iowa, Michigan, Minnesota, Missouri, Ohio, and Wisconsin. Regional Chief, National Wildlife Refuge System, U.S. Fish and Wildlife Service, 1 Federal Drive, Federal Building, Fort Snelling, Minnesota 55111; Telephone (612) 713-5400.

Region 4—Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, Georgia 30345; Telephone (404) 679-7154.

Region 5—Connecticut, Delaware, Maine, Maryland, Massachusetts, New Hampshire, New Jersey, New York, Pennsylvania, Rhode Island, Vermont, Virginia, and West Virginia. Regional Chief, National Wildlife Refuge System, U.S. Fish and Wildlife Service, 300 Westgate Center Drive, Hadley, Massachusetts 01035-9589; Telephone (413) 253-8302.

Region 6—Colorado, Kansas, Montana, Nebraska, North Dakota, South Dakota, Utah, and Wyoming. Regional Chief, National Wildlife Refuge System, U.S. Fish and Wildlife Service, 134 Union Boulevard, Lakewood, Colorado 80228; Telephone (303) 236-8145.

Region 7—Alaska. Regional Chief, National Wildlife Refuge System, U.S. Fish and Wildlife Service, 1011 E. Tudor Road, Anchorage, Alaska 99503; Telephone (907) 786-3354.

Primary Author

Leslie A. Marler, Management Analyst, Division of Conservation Planning and Policy, National Wildlife Refuge System, U.S. Fish and Wildlife Service, Arlington, VA 22203, is the primary author of this rulemaking document.

List of Subjects

50 CFR Part 25

Administrative practice and procedure, Concessions, Reporting and recordkeeping requirements, Safety, Wildlife refuges.

50 CFR Part 32

Fishing, Hunting, Reporting and recordkeeping requirements, Wildlife, Wildlife refuges.

For the reasons set forth in the preamble, we amend Title 50, Chapter I, subchapter C of the Code of Federal Regulations as follows:

PART 25—[AMENDED]

1. The authority citation for part 25 continues to read as follows:

Authority: 5 U.S.C. 301; 16 U.S.C. 260k, 664dd, 715i, and 3901 et seq.; and Pub. L. 102-402, 106 Stat. 1961.

2. Revise § 25.41 to read as follows:

§ 25.41 Who issues refuge permits?

We authorize the refuge manager of the facility where an activity is to take place to issue permits required by this subchapter C unless the regulations in this subchapter C require the applicant to obtain the applicable permit from the Director or Secretary. In those situations, the refuge manager will so inform the applicant, giving the applicant all necessary information as to how and where to apply.

3. Revise § 25.43 to read as follows:

§ 25.43 Who may terminate or revoke a permit and why?

The refuge manager may terminate or revoke a permit at any time for noncompliance with the terms of the permit or of the regulations in this subchapter C; for nonuse; for violation of any law, regulation, or order applicable to the refuge; or to protect public health or safety or the resources of a national wildlife refuge.

PART 32—[AMENDED]

4. The authority citation for part 32 continues to read as follows:

Authority: 5 U.S.C. 301; 16 U.S.C. 460k, 664, 668dd-668ee, and 715i.

5. In § 32.2 by revising the section heading and paragraph (f) and adding paragraph (l) to read as follows:

§ 32.2 What are the requirements for hunting on areas of the National Wildlife Refuge System?

* * * * *

(f) Each person must comply with the provisions of any refuge-specific regulations governing hunting on the wildlife refuge area. Regulations, special conditions, and maps of the hunting areas for a particular wildlife refuge are available at that area's headquarters. In addition, refuge-specific hunting regulations for migratory game bird, upland game, and big game hunting appear in §§ 32.20 through 32.72.

* * * * *

(l) The refuge-specific regulations (§ 32.20 through § 32.72) may include the items discussed in § 32.3(b). Refuge permits and brochures should also include those items and any special conditions allowed by paragraph (f) of this section.

6. In § 32.3 by revising the section heading and paragraph (e) to read as follows:

§ 32.3 What are the procedures for publication of refuge-specific hunting regulations?

* * * * *

(e) We initially publish refuge-specific hunting regulations in the daily issue of the Federal Register, and subsequently they appear in §§ 32.20 through 32.72, except that the refuge manager may adopt and issue relevant refuge-specific season dates and times after the State establishes its hunting seasons by publication through one or more of the methods identified in § 25.31 of this subchapter C.

* * * * *

7. In § 32.5 by revising the section heading and paragraph (e) to read as follows:

§ 32.5 What are the requirements for sportfishing on areas of the National Wildlife Refuge System?

* * * * *

(e) Each person must comply with the provisions of any refuge-specific regulation governing fishing on the wildlife refuge area. Regulations, special conditions, and maps of the fishing areas for a particular wildlife refuge are available at that area's headquarters. In addition, refuge-specific sport fishing regulations appear in §§ 32.20 through 32.72.

8. In § 32.6 by revising the section heading and paragraph (e) to read as follows:

§ 32.6 What are the procedures for publication of refuge-specific sport fishing regulations?

* * * * *

(e) We initially publish refuge-specific sport fishing regulations in the daily issue of the Federal Register, and subsequently they appear in §§ 32.20 through 32.72.

* * * * *

9. In § 32.7 “What refuge units are open to hunting and/or fishing?” by:

a. Revising the heading and introductory text as set forth below;

b. Alphabetically adding Bayou Teche National Wildlife Refuge and Cat Island National Wildlife Refuge in the State of Louisiana;

c. Alphabetically adding Lost Trail National Wildlife Refuge in the State of Montana;

d. Alphabetically adding Occoquan Bay National Wildlife Refuge, Rappahannock River Valley National Wildlife Refuge, and Wallops Island National Wildlife Refuge in the State of Virginia; and

e. Alphabetically adding Whittlesey Creek National Wildlife Refuge in the State of Wisconsin.

§ 32.7 What refuge units are open to hunting and/or sport fishing?

Refuge units open to hunting and/or sport fishing in accordance with the provisions of subpart A of this part and §§ 32.20-32.72, inclusive, are as follows:

* * * * *

10. In § 32.22 Arizona by revising paragraph B. of Buenos Aires National Wildlife Refuge to read as follows:

§ 32.22 Arizona.

* * * * *

Buenos Aires National Wildlife Refuge

* * * * *

B. Upland Game Hunting. We allow hunting of cottontail rabbit, coyote, and skunks on designated areas of the refuge subject to the following condition: We require refuge permits for hunting of coyotes and skunks.

* * * * *

11. In § 32.24 California by:

a. Revising paragraph A.2. of Merced National Wildlife Refuge;

b. Revising paragraph A.2. of Modoc National Wildlife Refuge;

c. Revising paragraph A. of Salinas River National Wildlife Refuge;

d. Adding paragraph A.11. of San Luis National Wildlife Refuge; and

e. Revising paragraphs A. and B. of San Pablo Bay National Wildlife Refuge to read as follows:

§ 32.24 California.

* * * * *

Merced National Wildlife Refuge

A. Hunting of Migratory Game Birds. * * *

* * * * *

2. You may possess no more than 25 approved nontoxic shotshells per day while in the field.

* * * * *

Modoc National Wildlife Refuge

A. Hunting of Migratory Game Birds. * * *

* * * * *

2. After the first weekend of the open season, we allow hunting only on Wednesdays, Saturdays, and Sundays. Hunters must check in and out of the refuge by using self-service permits.

* * * * *

Salinas River National Wildlife Refuge

A. Hunting of Migratory Game Birds. We allow hunting of geese, ducks, coots, and moorhens on designated areas of the refuge subject to the following conditions:

1. You may possess no more than 25 approved nontoxic shotshells per day while in the field.

2. Access to the hunt area is by foot traffic only. We do not allow bicycles and other conveyances. Mobility-impaired hunters should consult with the refuge manager for allowed conveyances.

3. You must keep firearms unloaded until you are within the designated hunt area.

* * * * *

San Luis National Wildlife Refuge

A. Hunting of Migratory Game Birds. * * *

* * * * *

11. We do not allow vehicle trailers of any type or size to be in the refuge hunt areas at any time or to be left unattended at any location on the refuge.

* * * * *

San Pablo Bay National Wildlife Refuge

A. Hunting of Migratory Game Birds. We allow hunting of geese, ducks, and coots on designated areas of the refuge and subject to the following conditions:

1. You may possess no more than 25 approved nontoxic shotshells while in the field.

2. Access is by boat only.

3. You must remove all portable blinds, decoys, and personal equipment following each day's hunt.

4. We allow floating blinds on the refuge, and they are available to any hunter on a first-come, first-served basis. Floating blinds require refuge manager approval or are subject to removal. Floating blinds may be left overnight, but hunters must remove them from the refuge at the end of the waterfowl season.

5. We prohibit digging into levees or slough channels.

6. We allow only dogs engaged in hunting activities on the refuge during waterfowl season. We allow no other domesticated animals or pets.

B. Upland Game Hunting. We allow hunting of pheasant on designated areas of the refuge in accordance with State regulation and subject to the following conditions:

1. You may possess no more than 25 approved nontoxic shotshells while in the field.

2. You may access the Tolay Creek Unit by foot and bicycle only.

3. We allow only dogs engaged in hunting activities on the refuge during pheasant season. We allow no other domesticated animals or pets.

* * * * *

12. In § 32.28 Florida by:

a. Revising paragraphs A., B., and C. of Lower Suwannee National Wildlife Refuge;

b. Revising paragraph A.3. and adding paragraph D.9. of Merritt Island National Wildlife Refuge;

c. Revising paragraphs A., B., and C., and adding paragraph D.11. of St. Marks National Wildlife Refuge; and

d. Revising paragraph C. of St. Vincent National Wildlife Refuge to read as follows:

§ 32.28 Florida.

* * * * *

Lower Suwannee National Wildlife Refuge

A. Hunting of Migratory Game Birds. We allow hunting of migratory game birds on designated areas of the refuge subject to the following conditions:

1. We require a refuge permit.

2. Parents or adult guardians over the age of 21 are responsible for supervising hunters under the age of 16 and must remain within sight and normal voice contact of the juvenile hunter. Parents or adult guardians are responsible for ensuring that hunters under the age of 16 do not engage in conduct that would constitute a violation of the refuge regulations.

B. Upland Game Hunting. We allow hunting of upland game on designated areas of the refuge subject to the following conditions:

1. We require a refuge permit.

2. Parents or adult guardians over the age of 21 are responsible for supervising hunters under the age of 16 and must remain within sight and normal voice contact of the juvenile hunter. Parents or adult guardians are responsible for ensuring that hunters under the age of 16 do not engage in conduct that would constitute a violation of the refuge regulations.

C. Big Game Hunting. We allow hunting of big game on designated areas of the refuge subject to the following conditions:

1. We require a refuge permit.

2. Parents or adult guardians over the age of 21 are responsible for supervising hunters under the age of 16 and must remain within sight and normal voice contact of the juvenile hunter. Parents or adult guardians are responsible for ensuring that hunters under the age of 16 do not engage in conduct that would constitute a violation of the refuge regulations.

* * * * *

Merritt Island National Wildlife Refuge

A. Hunting of Migratory Game Birds. * * *

* * * * *

3. You may hunt only in four designated areas of the refuge subject to delineation in the refuge hunting brochure and map, including the open waters of Mosquito Lagoon, Indian River, and designated impoundments outside the NASA security area. We do not allow hunting in the Banana River. You may not hunt in or enter any portion of the refuge south of Haulover Canal and east of the western boundary when the Kennedy Space Center activates its outer security perimeter.

* * * * *

D. Sport Fishing. * * *

* * * * *

9. You may not fish in or enter any portion of the refuge south of Haulover Canal and east of the western boundary when the Kennedy Space Center activates its outer security perimeter.

* * * * *

St. Marks National Wildlife Refuge

A. Hunting of Migratory Game Birds. We allow hunting of ducks and coots in designated areas of the refuge subject to the following condition: We require refuge permits.

B. Upland Game Hunting. We allow hunting of squirrel, rabbit, and raccoon on designated areas of the refuge subject to the following condition: We require refuge permits.

C. Big Game Hunting. We allow hunting of white-tailed deer, turkey, and feral hog on designated areas of the refuge subject to the following condition: We require refuge permits.

D. Sport Fishing. * * *

* * * * *

11. While on the refuge, anglers must keep all harvested fish in whole condition.

St. Vincent National Wildlife Refuge

* * * * *

C. Big Game Hunting. We allow hunting of white-tailed deer, sambar deer, and feral hog on designated areas of the refuge subject to the following condition: We require refuge permits.

* * * * *

13. In § 32.29 Georgia by revising paragraph B. of Okefenokee National Wildlife Refuge to read as follows:

§ 32.29 Georgia.

* * * * *

Okefenokee National Wildlife Refuge

* * * * *

B. Upland Game Hunting. We allow hunting of rabbit, squirrel, bobwhite quail, and turkey in the Cowhouse Unit of the refuge. The season will be consistent with the adjacent Dixon Memorial Wildlife Management Area and subject to the following conditions:

1. We require sign in/sign out.

2. We allow no vehicles on the refuge portion of Cowhouse Island.

3. We allow no dogs except for pointing dogs during quail hunts.

* * * * *

14. In § 32.32 Illinois by revising paragraph A.2. and C.3. of Crab Orchard National Wildlife Refuge to read as follows:

§ 32.32 Illinois.

* * * * *

Crab Orchard National Wildlife Refuge

A. Hunting of Migratory Game Birds. * * *

* * * * *

2. We only allow the use of portable or temporary blinds. Blinds must be a minimum of 200 yards (180 m) apart. You must remove portable or temporary blinds, any material brought onto the refuge for blind construction, boats, decoys, and all other personal property from the refuge at the end of each day's hunt.

* * * * *

C. Big Game Hunting. * * *

* * * * *

3. We prohibit deer hunting with a firearm in the controlled goose hunting areas or on all refuge lands north of Illinois State Route 13. We allow deer hunting in the controlled goose hunting areas and on all refuge lands north of Illinois State Route 13 only with archery equipment and in accordance with State regulations.

* * * * *

15. In § 32.35 Kansas by:

a. Revising paragraphs A., B., and C. of Flint Hills National Wildlife Refuge; and

b. Revising paragraph A. of Marais des Cygnes National Wildlife Refuge to read as follows:

§ 32.35 Kansas.

* * * * *

Flint Hills National Wildlife Refuge

A. Hunting of Migratory Game Birds. We allow hunting of geese, ducks, coots, mourning doves, rails (Virginia and sora only), and common snipe on designated areas of the refuge in accordance with State regulations and subject to the following condition: You may use only approved nontoxic shot.

B. Upland Game Hunting. We allow hunting of pheasant, quail, prairie chicken, rabbit, squirrel, and crow on designated areas of the refuge in accordance with State regulations and subject to the following conditions:

1. We prohibit centerfire rifles and pistols.

2. You may use only approved nontoxic shot for all shotgun hunting.

C. Big Game Hunting. We allow hunting of turkey and deer on designated areas of the refuge in accordance with State regulations and subject to the following conditions:

1. We allow only shotguns, muzzleloading firearms, or bow and arrow.

2. You may use only approved nontoxic shot for turkey hunting.

* * * * *

Marais des Cygnes National Wildlife Refuge

A. Hunting of Migratory Game Birds. We allow hunting of ducks, geese, rails (sora), coots, common snipe, and woodcock on designated areas of the refuge in accordance with State regulations and subject to the following conditions:

1. We restrict motor vehicles, including all-terrain vehicles (ATVs), to public roads and parking lots.

2. We restrict outboard motor use to the westernmost 5.5-mile (8.8 km) section of the Marais des Cygnes River. You may use nonmotorized boats and electric trolling motors on all open portions of the refuge, including the eastern 4-mile (6.4 km) section of the Marais des Cygnes River. Property boundaries are at the center of the river. Where sections of the river border private property, only the half of the river adjacent to public property is open to public use.

3. You must remove decoys each day.

4. We prohibit discharge of firearms within 150 yards (135 m) of any residence or other occupied building.

* * * * *

16. In § 32.37 Louisiana by:

a. Revising paragraph B. of Bayou Cocodrie National Wildlife Refuge;

b. Adding Bayou Teche National Wildlife Refuge;

c. Revising paragraphs A., B., and C. of Black Bayou Lake National Wildlife Refuge;

d. Adding Cat Island National Wildlife Refuge; and

e. Revising Catahoula National Wildlife Refuge to read as follows:

§ 32.37 Louisiana.

* * * * *

Bayou Cocodrie National Wildlife Refuge

* * * * *

B. Upland Game Hunting. We allow hunting of rabbit, squirrel, raccoon, beaver, feral hog, and coyote on designated areas of the refuge subject to the following condition: We require a refuge permit.

* * * * *

Bayou Teche National Wildlife Refuge

A. Hunting of Migratory Game Birds. We allow hunting of migratory game birds in designated areas of the refuge subject to the following conditions:

1. We require the use of either refuge-issued Self-clearing daily permits or Lottery permits.

2. Any person entering, using, or occupying the refuge for hunting must abide by all terms and conditions in the refuge brochure.

B. Upland Game Hunting. We allow hunting of squirrel, rabbit, raccoon, and opossum on designated areas of the refuge subject to the following conditions:

1. We require refuge-issued Self-clearing daily permits.

2. Any person entering, using, or occupying the refuge for hunting must abide by all terms and conditions in the refuge brochure.

C. Big Game Hunting. We allow hunting of white-tailed deer and feral hog on designated areas of the refuge subject to the following conditions:

1. We require the use of either refuge-issued Self-clearing daily permits or Lottery permits.

2. Any person entering, using, or occupying the refuge for hunting must abide by all terms and conditions in the refuge brochure.

D. Sport Fishing. We allow fishing on designated areas of the refuge subject to the following condition: Any person entering, using, or occupying the refuge for fishing must abide by all terms and conditions in the refuge brochure.

* * * * *

Black Bayou Lake National Wildlife Refuge

A. Hunting of Migratory Game Birds. We allow hunting of migratory game birds in designated areas of the refuge subject to the following conditions:

1. We require refuge permits.

2. Any person entering, using, or occupying the refuge for hunting must abide by all terms and conditions in the refuge hunting brochure.

B. Upland Game Hunting. We allow hunting of raccoon, opossum, squirrel, rabbit, quail, woodcock, coyote, and beaver on designated areas of the refuge subject to the following conditions:

1. We require refuge permits.

2. Any person entering, using, or occupying the refuge for hunting must abide by all terms and conditions in the refuge hunting brochure.

C. Big Game Hunting. We allow archery hunting of white-tailed deer on the refuge subject to the following conditions:

1. We require refuge permits.

2. Any person entering, using, or occupying the refuge for hunting must abide by all terms and conditions in the refuge hunting brochure.

* * * * *

Cat Island National Wildlife Refuge

A. Hunting of Migratory Game Birds. We allow hunting of ducks, geese, coots, woodcock, and common snipe on designated areas of the refuge in accordance with State regulations and subject to the following condition: We require refuge permits.

B. Upland Game Hunting. We allow hunting of squirrel, rabbit, raccoon, beaver, nutria, and coyote on designated areas of the refuge in accordance with State regulations and subject to the following condition: We require refuge permits.

C. Big Game Hunting. We allow hunting of white-tailed deer, turkey, and feral hog on designated areas of the refuge in accordance with State regulations and subject to the following condition: We require refuge permits.

D. Sport Fishing. We allow fishing and crayfishing on designated areas of the refuge in accordance with State regulations and subject to the following conditions:

1. We require refuge permits.

2. The ends of trotlines must consist of a length of cotton line that extends from the points of attachment into the water.

Catahoula National Wildlife Refuge

A. Hunting of Migratory Game Birds. We allow hunting of migratory game birds on designated areas of the refuge subject to the following condition: We require refuge permits.

B. Upland Game Hunting. We allow hunting of raccoon, squirrel, rabbit, and feral hog on designated areas of the refuge subject to the following condition: We require refuge permits.

C. Big Game Hunting. We allow hunting of white-tailed deer and feral hog on designated areas of the refuge subject to the following condition: We require refuge permits.

D. Sport Fishing. We allow fishing on designated areas of the refuge subject to the following conditions:

1. We allow fishing from 1 hour before sunrise until ½-hour after sunset.

2. We allow boat launching on all refuge waters as designated in the refuge brochure. We allow only nonmotorized boats or boats with motors of 10 horsepower or less, except on Bushley Creek, Big Bushley Creek, and Little Bushley Creek where there is no horsepower restriction.

3. Cowpen Bayou, the Highway 28 borrow pits, and Bushley Bayou Unit are open to fishing all year.

4. All other refuge waters on the Headquarters Unit, including Duck Lake, Muddy Bayou, Willow Lake, ditches, all outlet waters, and all flooded woodlands are open to fishing and boating from March 1 through October 31.

5. On the Headquarters Unit we allow only pole and line or rod and reel fishing. We prohibit snagging.

6. On the Bushley Bayou Unit we allow fishing and crayfishing subject to the following conditions:

i. Anglers must reset trotlines when receding water levels expose them, and trotlines must consist of a length of cotton line that extends from the points of attachment into the water.

ii. Anglers must attend yo-yos during daylight hours only.

iii. We allow recreational gear (slat traps, wire nets, hoop nets) only by refuge permit and only in Bushley Creek, Big Bushley Creek, and Little Bushley Creek.

iv. We prohibit commercial fishing and crayfishing.

* * * * *

17. In § 32.38 Maine by revising paragraphs C. and D. of Moosehorn National Wildlife Refuge to read as follows:

§ 32.38 Maine.

* * * * *

Moosehorn National Wildlife Refuge

* * * * *

C. Big Game Hunting. We allow hunting of deer on designated areas of the refuge subject to the following conditions:

1. During firearms big game season hunters must wear in a conspicuous manner on head, chest, and back a minimum of 400 square inches (2,600 cm²) solid-colored hunter orange clothing or material.

2. Hunters harvesting a deer on the refuge must notify the refuge office within 24 hours and present the field-dressed deer for inspection by refuge personnel.

3. Hunters who wish to use portable tree stands or blinds must register at the refuge office prior to placement of the stand or blind.

D. Sport Fishing. We allow fishing on designated areas of the refuge subject to the following conditions:

1. We allow nonmotorized boats only on Bearce and Conic Lakes.

2. We allow fishing during daylight hours only.

* * * * *

18. In § 32.41 Michigan by revising paragraphs C. and D. of Seney National Wildlife Refuge to read as follows:

§ 32.41 Michigan.

* * * * *

Seney National Wildlife Refuge

* * * * *

C. Big Game Hunting. We allow hunting of deer and bear on designated areas of the refuge subject to the following condition: We do not allow the use of dogs while deer or bear hunting.

D. Sport Fishing. We allow fishing on designated areas of the refuge subject to the following conditions:

1. We do not allow the use of fishing weights or lures containing lead.

2. We allow ice fishing from January 1 through the end of February during daylight hours only.

3. We do not allow ice shanties, houses, or shelters on F Pool.

4. When ice fishing, we do not allow snowmobiles or all-terrain vehicles. We prohibit all-terrain vehicles and snowmobiles on the refuge.

5. We allow fishing from May 15 through September 30 during daylight hours only.

6. We allow fishing on the Creighton Driggs and Manistique Rivers from May 15 through September 30.

7. We allow only bank fishing in refuge pools.

8. We allow nonmotorized boats and bankfishing along Driggs and Creighton Rivers.

* * * * *

19. In § 32.42 Minnesota by:

a. Revising the introductory text of paragraph A. of Litchfield Wetland Management District;

b. Revising paragraph D. of Rydell National Wildlife Refuge; and

c. Adding paragraph B.4. of Tamarac National Wildlife Refuge to read as follows:

§ 32.42 Minnesota.

* * * * *

Litchfield Wetland Management District

A. Hunting of Migratory Game Birds. We allow hunting of migratory game birds throughout the district except you may not hunt on the Phare Lake Waterfowl Production Area in Renville County. All hunting is subject to the following conditions:

* * * * *

Rydell National Wildlife Refuge

* * * * *

D. Sport Fishing. We only allow fishing from the fishing pier on Tamarac Lake beginning May 1 through July 15 during refuge open hours.

* * * * *

Tamarac National Wildlife Refuge

* * * * *

B. Upland Game Hunting. * * *

* * * * *

4. We require hunters to wear at least one article of blaze orange clothing visible above the waist.

* * * * *

20. In § 32.45 Montana by:

a. Revising paragraphs A., C., and D. of Lee Metcalf National Wildlife Refuge; and

b. Adding Lost Trail National Wildlife Refuge to read as follows:

§ 32.45 Montana.

* * * * *

Lee Metcalf National Wildlife Refuge

A. Hunting of Migratory Game Birds. We allow hunting of ducks, geese, and coots from established blinds in designated areas of the refuge in accordance with State regulations and subject to the following conditions (consult refuge manager prior to hunting to learn of changes or updates):

1. Hunting Access: We number blinds and assign them to a specific access point designated in the refuge hunting leaflet. Hunters must park at the appropriate access point and numbered parking space and walk to a blind along mowed trails designated on the hunting leaflet. We open access points to hunters who intend to immediately hunt on the refuge. We prohibit wildlife observation, scouting, and loitering at access points and parking areas.

2. Hunting Hours: We open the hunting area, defined by the refuge boundary fence, 2 hours before and require departure 2 hours after the waterfowl hunting hours, as defined by Montana Department of Fish, Wildlife and Parks.

3. Registration: Each hunter must record his or her name and Conservation

License Number at the appropriate register before hunting, must set the appropriate blind selector before and after hunting, and must record hunting data at the appropriate register before departing the hunting area.

4. Blind selection is on a first-come, first-served basis with the exception of the opening weekend of waterfowl season. We will distribute blind permits for the opening weekend by a public drawing. We will announce the drawing time and place in local newspapers.

5. Hunters with a documented mobility disability may reserve an accessible blind in advance by contacting a refuge officer.

6. No more than four hunters may use a single blind at one time.

7. You may not possess more than 20 approved nontoxic shotshells per day.

8. You must conduct all hunting from within 10 feet (3 m) of a blind.

9. All hunters must have a visible means of retrieving waterfowl such as a float tube, chest-high waders, or a dog capable of retrieving.

10. Hunters must deploy a minimum of six decoys per blind in order to hunt from blinds 7, 8, 9, 10, 11, and 14.

11. We prohibit attempting to “reserve” a blind for use later in the day by depositing a vehicle or other equipment on the refuge. A hunter must be physically present in the hunting area in order to use a blind.

12. We prohibit falconry hunting.

13. We prohibit blocking access to refuge gates.

14. We prohibit boats, fishing gear, fires, alcoholic beverages, and littering. Litter includes food products, animal parts, and spent shells.

* * * * *

C. Big Game Hunting. We allow archery hunting of white-tailed deer on designated areas of the refuge in accordance with State regulations and subject to the following conditions (consult refuge manager prior to hunting to learn of changes or updates):

1. Hunting Access: Hunters must enter and exit through designated archery hunting access points. Access points are open to hunters intending to immediately hunt on the refuge. We prohibit wildlife observation, scouting, and loitering at access points and parking areas.

2. Hunting Hours: We open the hunting area, defined by the refuge boundary fence, 2 hours before and require departure 2 hours after the big game hunting hours as defined by Montana Department of Fish, Wildlife and Parks.

3. Registration: Each hunter must record his or her name and Conservation License Number at the appropriate register before hunting and must record hunting data at the appropriate register before departing the hunting area.

4. Tree Stands and Blinds: We allow only portable tree stands and blinds. We prohibit leaving tree stands or ground blinds on the refuge overnight. We prohibit the use of screw-in tree steps or climbing spikes. We prohibit the use of nails, wire, screws, or bolts to attach a stand to a tree, or hunting from a tree into which a hunter has driven a metal object for support.

5. We prohibit pre-season entry or scouting.

6. Hunters may not enter or retrieve deer from closed areas of the refuge without the consent of a refuge officer.

7. We prohibit boats, fishing gear, fires, firearms, alcoholic beverages, and littering.

8. Hunters with a documented mobility disability may access designated locations in the hunting area to hunt from ground blinds. To access these areas, hunters must contact the refuge manager in advance to obtain a special use permit.

D. Sport Fishing. We allow fishing on designated areas of the refuge in accordance with State regulations in effect on the Bitterroot River from Tucker Crossing to Florence Bridge subject to specific regulations detailed in refuge publications, signs, and brochures.

Lost Trail National Wildlife Refuge

A. Hunting of Migratory Game Birds. [Reserved]

B. Upland Game Hunting. We allow hunting of turkey and mountain grouse in designated areas of the refuge in accordance with State regulations and subject to the following conditions:

1. We do not allow hunting in areas posted as “Closed to Hunting” around the refuge headquarters, maintenance buildings, and quarters.

2. We prohibit guiding and outfitting.

3. We allow use of riding or pack stock on access routes designated through the refuge to access off-refuge lands as designated in the public use leaflet.

4. You may not use dogs for hunting of any species.

5. You may possess only approved nontoxic shot while on the refuge.

6. We prohibit overnight camping.

7. We prohibit retrieval of game through areas closed to hunting without prior consent by the refuge manager.

8. We allow only portable or temporary blinds and tree stands.

9. We allow parking in designated areas only.

C. Big Game Hunting. We allow hunting of elk, white-tailed deer, and mule deer within designated areas of the refuge in accordance with State regulations and subject to the following conditions:

1. We do not allow hunting in areas posted as “Closed to Hunting” around the refuge headquarters, maintenance buildings, and quarters.

2. We prohibit guiding and outfitting.

3. We allow use of riding or pack stock on access routes designated through the refuge to access off-refuge lands as designated in the public use leaflet.

4. You may not use dogs for hunting of any species.

5. You may possess only approved nontoxic shot while on the refuge.

6. We prohibit overnight camping.

7. We prohibit open fires.

8. We prohibit retrieval of game through areas closed to hunting without prior consent by the refuge manager.

9. We allow only portable or temporary blinds and tree stands.

10. We allow parking in designated areas only.

11. The first week of the archery and the first week of general elk and deer hunting season are open to youth-only (ages 12 and 13 only) hunting.

D. Sport Fishing. [Reserved]

* * * * *

21. In § 32.47 Nevada revising the introductory text of paragraph A., removing paragraph A.2., and redesignating paragraph A.3. as paragraph A.2, and revising paragraphs D.2., D.3., D.4., D.5., D.6., and D.7. of Ruby Lake National Wildlife Refuge to read as follows:

§ 32.47 Nevada.

* * * * *

Ruby Lake National Wildlife Refuge

A. Hunting of Migratory Game Birds. We allow hunting of dark geese, ducks, coots, moorhens, and common snipe on designated areas of the refuge in accordance with State regulations and subject to the following conditions:

* * * * *

D. Sport Fishing. * * *

* * * * *

2. We allow fishing by wading and from personal flotation devices (float tubes) and bank fishing in designated areas.

3. You may use only artificial lures in the Collection Ditch and adjoining spring ponds.

4. We do not allow boats on refuge waters from January 1 through June 14.

5. During the boating season, we allow boats only on the South Marsh. June 15 through July 31, we allow only motorless boats or boats with battery-powered electric motors. Anglers must remove all gasoline-powered motors. August 1 through December 31, we allow only motorless boats and boats propelled with motors with a total of 10 horsepower or less.

6. We allow launching of boats only from designated landings.

7. We prohibit the possession of live or dead bait fish, any amphibians (including frogs), and crayfish on the refuge.

* * * * *

22. In § 32.50 New Mexico by:

* * * * *

a. Revising paragraph C. of Bitter Lake National Wildlife Refuge; and

b. Revising paragraphs A. and C. of Bosque del Apache National Wildlife Refuge to read as follows:

§ 32.50 New Mexico.

Bitter Lake National Wildlife Refuge

* * * * *

C. Big Game Hunting. We allow hunting of mule deer, white-tailed deer, and feral hog on designated areas of the refuge subject to the following condition: We allow hunting during seasons, dates, times, and areas as posted by signs and/or indicated on refuge leaflets, special regulations, and maps available at the refuge office.

* * * * *

Bosque del Apache National Wildlife Refuge

A. Hunting of Migratory Game Birds. We allow hunting of mourning and white-winged doves and snow geese on designated areas of the refuge subject to the following conditions:

1. You may hunt snow geese on Monday, Wednesday, and Friday during the second full week of January.

2. We require a refuge permit and payment of a fee to hunt snow geese.

3. You may possess only nontoxic shot while in the field.

4. We allow use of hunting dogs for bird retrieval.

5. We do not allow hunters or dogs to retrieve dead or wounded birds in closed areas.

6. Each hunter must successfully complete a New Mexico crane and snow goose hunter identification training course for hunting on State and Federal refuges in the Middle Rio Grande Valley.

7. Snow goose hunters must report to the refuge headquarters by 4:45 a.m. each hunt day. Shooting time will be 6:45 a.m. to 10 a.m. local time.

* * * * *

C. Big Game Hunting. We allow hunting of mule deer and oryx on designated areas of the refuge subject to the following conditions:

1. Refer to the refuge map for designated areas.

2. Hunts are subject to State regulations and seasons.

3. Oryx hunters should contact the refuge manager for special hunt dates.

* * * * *

23. In § 32.52 North Carolina by:

a. Revising Alligator River National Wildlife Refuge;

b. Revising paragraph D. of Pea Island National Wildlife Refuge; and

c. Adding paragraph A.5. and revising paragraphs B.3. and C.3. of Pocosin Lakes National Wildlife Refuge to read as follows:

§ 32.52 North Carolina.

* * * * *

Alligator River National Wildlife Refuge

A. Hunting of Migratory Game Birds. We allow hunting of swans, geese, ducks, coots, common snipe, mourning doves, and woodcock on designated areas of the refuge subject to the following conditions:

1. We require possession of a refuge hunting permit.

2. You may possess only approved nontoxic shot in the field.

B. Upland Game Hunting. We allow hunting of squirrel, rabbit, quail, raccoon, and opossum on designated areas of the refuge subject to the following conditions:

1. We require possession of a refuge permit.

2. You may possess only approved nontoxic shot while on the refuge when hunting with a shotgun, except you may possess slugs and buckshot containing lead to hunt deer.

3. We require possession of a refuge Special Use Permit to hunt raccoon and opossum at night.

C. Big Game Hunting. We allow hunting of white-tailed deer on designated areas of the refuge subject to the following condition: We require possession of a refuge hunting permit.

D. Sport Fishing. We allow fishing and frogging on designated areas of the refuge subject to the following conditions:

1. You may fish year-round from ½ hour before sunrise to ½ hour after sunset. We require possession of a refuge Special Use Permit to fish at night.

2. You may use only a pole and line, rod and reel, hand line, dip net, or cast net for fishing.

3. You may take frogs only at night from April 1 through August 31. We require possession of a refuge Special Use Permit to take frogs.

* * * * *

Pea Island National Wildlife Refuge

* * * * *

D. Sport Fishing. We allow fishing and crabbing on designated areas of the refuge subject to the following conditions:

1. We prohibit fishing and crabbing in North Pond, South Pond, Newfield, North Carolina Department of Transportation Mitigation and other impoundments west of North Carolina Highway 12.

2. You may fish year-round from ½ hour before sunrise to ½ hour after sunset. You may surf fish at night from September 15 through May 31 east of North Carolina Highway 12. We require possession of a refuge fishing permit to surf fish at night.

3. You may use only pole and line, rod and reel, hand line, dip net, or cast net for fishing and crabbing.

* * * * *

Pocosin Lakes National Wildlife Refuge

A. Hunting of Migratory Game Birds. * * *

* * * * *

5. You must unload, encase, or dismantle firearms transported via motorized vehicle or in a boat under power.

B. Upland Game Hunting. * * *

* * * * *

3. You must unload, encase, or dismantle firearms transported via motorized vehicle or in a boat under power.

* * * * *

C. Big Game Hunting. * * *

* * * * *

3. You must unload, encase, or dismantle firearms transported via motorized vehicle or in a boat under power.

* * * * *

24. In § 32.53 North Dakota by:

a. Revising Paragraphs B.3. and B.4. and by adding paragraphs B.5. and B.6. of Des Lacs National Wildlife Refuge; and

b. Revising paragraphs B., C., and D. of Long Lake National Wildlife Refuge to read as follows:

§ 32.53 North Dakota.

* * * * *

Des Lacs National Wildlife Refuge

* * * * *

B. Upland Game Hunting. * * *

* * * * *

3. Upland game bird and rabbit season opens annually on the day following the close of the regular firearm deer season through the end of the State season.

4. The upland game bird and rabbit falconry season opens annually on the day following the close of the regular firearm deer season through March 31.

5. Fox hunting opens annually on the day following the close of the regular firearm deer season through March 31.

6. Turkey hunting is subject to all State regulations, license requirements, units, and dates.

* * * * *

Long Lake National Wildlife Refuge

* * * * *

B. Upland Game Hunting. We allow hunting of ring-necked pheasant, sharp-tailed grouse, and gray partridge on designated areas of the refuge subject to the following conditions:

1. You may possess only approved nontoxic shot while in the field.

2. The upland game bird season opens annually on the day following the close of the firearm deer season and runs through the close of the State season.

C. Big Game Hunting. We allow hunting of deer only on designated areas of the refuge subject to the following conditions:

1. Hunters must enter the refuge on foot only.

2. We allow archery hunting. We restrict open archery areas to those areas of the refuge open to firearms during the firearm season.

D. Sport Fishing. We allow fishing on designated areas of the refuge subject to the following conditions:

1. We restrict bank fishing to public use areas on Unit 1, Unit 2, and Long Lake Creek.

2. We restrict boat fishing to Long Lake Creek.

3. We restrict boats to 25 horsepower maximum.

4. We restrict boats to the period from May 1 through September 30.

5. We restrict ice fishing to Unit 1 and Long Lake Creek.

* * * * *

25. In § 32.55 Oklahoma by revising paragraph C. of Washita National Wildlife Refuge to read as follows:

§ 32.55 Oklahoma.

* * * * *

Washita National Wildlife Refuge

* * * * *

C. Big Game Hunting. We allow hunting of white-tailed deer and feral hog on designated areas of the refuge subject to the following conditions:

1. We allow hunting during the special refuge season in accordance with the refuge hunt information sheet.

2. You must obtain a refuge hunt permit and pay a fee (fee waived for Youth Hunt participants).

3. You must check in and out of hunt areas daily at the refuge office or check station.

4. You must take bagged deer and/or hog to the refuge check station.

5. We will determine bag limits on deer annually.

6. We prohibit the use of bait.

7. A nonhunting mentor of 21 years of age or older must accompany, and be in the immediate presence of, participants in the Youth Hunt, who must be between the ages of 12 and 18. Hunters and mentors must BOTH wear hunter orange clothing meeting or exceeding the minimum State requirements.

8. We prohibit handguns.

* * * * *

26. In § 32.56 Oregon by:

a. Revising paragraph C. of Malheur National Wildlife Refuge; and

b. Revising McNary National Wildlife Refuge to read as follows:

§ 32.56 Oregon.

* * * * *

Malheur National Wildlife Refuge

* * * * *

C. Big Game Hunting. We allow hunting of deer and pronghorn during authorized State seasons only on the refuge area west of Highway 205 and south of Foster Flat Road.

* * * * *

McNary National Wildlife Refuge

A. Hunting of Migratory Game Birds. We allow hunting of doves on designated areas of the refuge in accordance with State regulations.

B. Upland Game Hunting. We allow hunting of upland game on designated areas of the refuge in accordance with State regulations.

C. Big Game Hunting. We allow hunting of deer on designated areas of the refuge in accordance with State regulations and subject to the following condition: We allow shotgun and archery hunting only.

D. Sport Fishing. [Reserved]

* * * * *

27. In § 32.57 Pennsylvania by revising the introductory text of paragraph C. and adding paragraphs C.4. and C.5. to Erie National Wildlife Refuge to read as follows:

§ 32.57 Pennsylvania.

* * * * *

Erie National Wildlife Refuge

* * * * *

C. Big Game Hunting. We allow hunting of deer, bear, and turkey on designated areas of the refuge subject to the following conditions:

* * * * *

4. We prohibit organized deer drives by three or more persons in hunt area B of the refuge. We define a “drive” as three or more individuals involved in the act of chasing, pursuing, disturbing, or otherwise directing game as to make the animals more susceptible to harvest.

5. We require a refuge Special Use Permit for hunting of bear.

* * * * *

28. In § 32.60 South Carolina by:

a. Revising paragraph C. of ACE Basin National Wildlife Refuge; and

b. Revising Cape Romain National Wildlife Refuge to read as follows:

§ 32.60 South Carolina.

* * * * *

ACE Basin National Wildlife Refuge

* * * * *

C. Big Game Hunting. We allow hunting of white-tailed deer and feral hog on designated areas of the refuge subject to the following condition: We require a refuge permit.

* * * * *

Cape Romain National Wildlife Refuge

A. Hunting of Migratory Game Birds. We allow hunting of marsh hens/rails only on designated areas of the refuge subject to the following conditions:

1. We require a refuge hunt permit.

2. You may possess only approved nontoxic shot.

B. Upland Game Hunting. We allow hunting of raccoon on designated areas of the refuge subject to the following condition: We require a refuge hunt permit.

C. Big Game Hunting. We allow hunting of white-tailed deer on designated areas of the refuge subject to the following condition: We require a refuge hunt permit.

D. Sport Fishing. We allow fishing, crabbing, and shell fishing on designated areas of the refuge subject to State regulations and the following condition: Marsh Island, White Banks, and Bird Island are open from September 15 through February 15. We close them the rest of the year to protect nesting birds.

* * * * *

29. In § 32.62 Tennessee by revising paragraphs B.1. and C.1. of Tennessee National Wildlife Refuge to read as follows:

§ 32.62 Tennessee.

* * * * *

Tennessee National Wildlife Refuge

* * * * *

B. Upland Game Hunting. * * *

1. We require annual refuge hunting permits.

* * * * *

C. Big Game Hunting. * * *

1. We require annual refuge hunting permits.

* * * * *

30. In § 32.63 Texas by:

a. Revising the introductory text of paragraph A., revising paragraphs A.1., A.2., A.3., and removing paragraphs A.5. and A.6. of Anahuac National Wildlife Refuge;

b. Removing paragraph A.3 from Brazoria National Wildlife Refuge;

c. Revising the introductory text of paragraph A., revising paragraphs A.1., A.2., A.3., removing paragraphs A.4., A.5., and A.7., and redesignating paragraph A.6. as paragraph A.4. of McFaddin National Wildlife Refuge;

d. Removing paragraph A.3. from San Bernard National Wildlife Refuge;

e. Revising the introductory text of paragraph A., revising paragraphs A.1. and A.2., removing paragraphs A.3., A.4., and A.6., and redesignating paragraph A.5 as paragraph A.3. of Texas Point National Wildlife Refuge; and

f. Revising paragraph A. of Trinity River National Wildlife Refuge to read as follows:

§ 32.63 Texas.

* * * * *

Anahuac National Wildlife Refuge

A. Hunting of Migratory Game Birds. We allow hunting of geese, ducks, and coots on designated areas of the refuge subject to the following conditions:

1. We require a permit to hunt on all hunting units of the refuge, and hunters must have this permit in their possession while hunting. The annually issued waterfowl hunting permit contains all refuge-specific waterfowl hunting regulations. Any person entering, using, or occupying the refuge for hunting must abide by all terms and conditions in the waterfowl hunting permit.

2. We require payment of a fee to hunt on portions of the refuge.

3. You may hunt only on designated days of the week and on designated areas during the general waterfowl hunting season. You may hunt on designated areas during all days of the September teal season. We annually issue notice of hunting days and maps depicting areas open to hunting in the refuge hunting permit.

* * * * *

McFaddin National Wildlife Refuge

A. Hunting of Migratory Game Birds. We allow hunting of geese, ducks, and coots on designated areas of the refuge subject to the following conditions:

1. We require a permit to hunt on all hunting units of the refuge, and hunters must have this permit in their possession while hunting. The annually issued waterfowl hunting permit contains all refuge-specific waterfowl hunting regulations. Any person entering, using, or occupying the refuge for hunting must abide by all terms and conditions in the waterfowl hunting permit.

2. We require payment of a fee to hunt on portions of the refuge.

3. You may hunt only on designated days of the week and on designated areas during the general waterfowl hunting season. You may hunt on designated areas during all days of the September teal season. We annually issue notice of hunting days and maps depicting areas open to hunting in the refuge permit.

* * * * *

Texas Point National Wildlife Refuge

A. Hunting of Migratory Game Birds. We allow hunting of geese, ducks, and coots on designated areas of the refuge subject to the following conditions:

1. We require a permit to hunt on all hunting units of the refuge, and the hunter must have this permit in his or her possession while hunting. The annually issued waterfowl hunting permit contains all refuge-specific waterfowl hunting regulations. Any person entering, using, or occupying the refuge for hunting must abide by all terms and conditions in the waterfowl hunting permit.

2. You may hunt only on designated days of the week and on designated areas during the general waterfowl hunting season. You may hunt on designated areas during all days of the September teal season. We annually issue notice of hunting days and maps depicting areas open to hunting in the refuge hunting permit.

* * * * *

Trinity River National Wildlife Refuge

A. Hunting of Migratory Game Birds. We allow hunting of ducks on designated areas of the refuge subject to the following conditions:

1. We allow hunting on Champion Lake by drawing only.

2. We require an application fee for participants to enter the drawing. We will issue a refuge permit to those drawn, and the hunter must carry the permit at all times when hunting.

3. We allow hunting on Saturday and Sunday during the State duck and teal season. Hunters may not enter the refuge before 4:30 a.m. and must be off the hunt area by 12:00 p.m. (noon).

4. We allow only temporary blinds. Hunters must remove blinds and decoys daily.

5. We limit motors to 10 horsepower or less.

6. We allow retrievers, but they must be under the control of the owner.

7. Youth hunters, 17 years of age and under, must be under direct supervision of an adult, 18 years of age or older.

8. You must unload and encase all shotguns while in transit through the refuge.

9. You may possess only approved nontoxic shot.

10. The minimum distance we allow between hunt parties is 150 yards (135 m).

11. We prohibit the use, possession, or being under the influence of alcoholic beverages while hunting in or accessing or returning from the field.

* * * * *

30a. In § 32.64 Utah by revising paragraph A. of Fish Springs National Wildlife Refuge to read as follows:

§ 32.64 Utah.

* * * * *

Fish Springs National Wildlife Refuge

A. Hunting of Migratory Game Birds. We allow hunting of ducks and coots on designated areas of the refuge in accordance with State regulations and the following conditions:

1. All hunters must register individually at the visitor information station before entering the open hunting area and prior to exiting the refuge.

2. We do not allow hunters or dogs to enter closed areas to retrieve birds.

3. You may only possess firearms legally used to hunt waterfowl unless you case or break them down.

4. You may construct nonpermanent blinds. You must remove all blinds constructed out of materials other than vegetation at the end of a hunt day.

5. We allow use of small boats (15′ or less). We do not allow gasoline motors and air boats.

6. You may enter the refuge 2 hours prior to sunrise and must exit the refuge by 1½ hours after sunset. You may not leave decoys, boats, vehicles, and other personal property on the refuge overnight.

7. We have a Special Blind Area for use by the disabled. We prohibit trespass for any reason by any individual not registered to utilize that area.

* * * * *

31. In § 32.66 Virginia by:

a. Revising paragraph C. of James River National Wildlife Refuge;

b. Adding Occoquan National Wildlife Refuge;

c. Revising paragraph C. of Presquile National Wildlife Refuge;

d. Adding Rappahannock River Valley National Wildlife Refuge; and

e. Adding Wallops Island National Wildlife Refuge to read as follows:

§ 32.66 Virginia.

* * * * *

James River National Wildlife Refuge

* * * * *

C. Big Game Hunting. We allow hunting of white-tailed deer in designated areas of the refuge subject to the following conditions:

1. Hunters must carry a refuge permit at all times on the refuge.

2. You may not discharge a firearm or archery equipment across or within any refuge road, as designated on the refuge hunt maps.

3. We close the refuge to all hunting from December 1 until the end of the State hunting season to protect roosting and nesting bald eagles.

4. Hunters in the field shall retrieve and maintain in their custody all crippled and killed game, if possible.

5. You may not transport a loaded firearm in any vehicle on the refuge.

6. On the refuge deer hunters, when hunting with guns, must wear a minimum of 400 square inches (2,600 cm²) of solid blaze orange visible from 360 degrees.

7. We allow only portable tree stands on the refuge, and hunters must remove them at the end of the day.

8. We prohibit hunting with dogs.

9. We prohibit camping on refuge lands.

10. We prohibit the use of open fires.

* * * * *

Occoquan Bay National Wildlife Refuge

A. Hunting of Migratory Game Birds. [Reserved]

B. Upland Game Hunting. [Reserved]

C. Big Game Hunting. We allow hunting of white-tailed deer in designated areas of the refuge in accordance with State regulations and subject to the following conditions:

1. We require a refuge permit.

2. Hunters must have in their possession at all times a copy of the refuge permit containing the refuge regulations, their hunting license, and, if issued, their State-issued deer management assistance program (DMAP) tag.

3. We will select specific hunting dates within the State seasons. Consult the refuge office for information on specific hunt dates.

4. You may not transport a loaded firearm in any vehicle on any refuge road or right of way.

5. Hunters must wear in a conspicuous manner on chest and back a minimum of 400 square inches (2,600 cm ²) of solid hunter orange clothing or material and a hunter orange cap or hat.

D. Sport Fishing. [Reserved]

* * * * *

Presquile National Wildlife Refuge

* * * * *

C. Big Game Hunting. We allow hunting of white-tailed deer in designated areas of the refuge subject to the following conditions:

1. Hunters must carry a refuge permit at all times on the refuge.

2. You may not discharge a firearm or archery equipment across or within any refuge road, as designated on the refuge hunt maps.

3. We close the refuge to all hunting from December 1 until the end of the State hunting season to protect roosting and nesting bald eagles.

4. Hunters in the field shall retrieve and maintain in their custody all crippled and killed game, if possible.

5. You may not transport a loaded firearm in any vehicle on the refuge.

6. On the refuge deer hunters, when hunting with guns, must wear a minimum of 400 square inches (2,600 cm²) of solid blaze orange visible from 360 degrees.

7. We allow only portable tree stands on the refuge, and hunters must remove them at the end of the day.

8. We prohibit hunting with dogs.

9. We prohibit camping on refuge lands.

10. We prohibit the use of open fires.

* * * * *

Rappahannock River Valley National Wildlife Refuge

A. Hunting of Migratory Game Birds. [Reserved]

B. Upland Game Hunting. [Reserved]

C. Big Game Hunting. We allow hunting of white-tailed deer in designated areas of the refuge subject to the following conditions:

1. Hunters must carry a refuge permit at all times on the refuge.

2. You may not discharge a firearm or archery equipment across or within any refuge road, as designated on the refuge hunt maps.

3. We close the refuge to all hunting from December 1 until the end of the State hunting season to protect roosting and nesting bald eagles.

4. Hunters in the field shall retrieve and maintain in their custody all crippled and killed game, if possible.

5. You may not transport a loaded firearm in any vehicle on the refuge.

6. On the refuge deer hunters, when hunting with guns, must wear a minimum of 400 square inches (2,600 cm²) of solid blaze orange visible from 360 degrees.

7. We allow only portable tree stands on the refuge, and hunters must remove them at the end of each hunt day.

8. We prohibit hunting with dogs.

9. We prohibit camping on refuge lands.

10. We prohibit the use of open fires.

D. Sport Fishing. [Reserved]

Wallops Island National Wildlife Refuge

A. Hunting of Migratory Game Birds. [Reserved]

B. Upland Game Hunting. [Reserved]

C. Big Game Hunting. We allow hunting of white-tailed deer on designated areas of the refuge in accordance with State regulations and the following conditions:

1. We require a refuge permit.

2. We do not allow dogs.

3. We allow only portable tree stands on the refuge, and hunters must remove them at the end of each hunt day.

4. Hunters must comply with refuge check-in and check-out procedures as specified on the hunt permit.

5. During firearms big game season, including scouting days, hunters must wear in a conspicuous manner on head, chest, and back a minimum of 400 square inches (2,600 cm²) of solid-colored hunter orange clothing or material.

6. We prohibit camping.

7. We prohibit the use of open fires.

D. Sport Fishing. [Reserved]

32. In § 32.67 Washington by:

a. Adding paragraphs A.4., A.5., A.6., A.7., B.4., and B.5., revising the introductory text of paragraph C., and adding paragraphs C.3. and C.4. of Hanford Reach National Monument/Saddle Mountain National Wildlife Refuge; and

b. Revising McNary National Wildlife Refuge to read as follows:

§ 32.67 Washington.

* * * * *

Hanford Reach National Monument/Saddle Mountain National Wildlife Refuge

A. Hunting of Migratory Game Birds. * * *

* * * * *

4. We do not allow hunters or dogs to enter closed areas to retrieve game.

5. We do not allow permanent or pit blinds or cutting vegetation on the refuge. You must remove all blind materials, decoys, and other equipment (including spent casings) following each day's hunt.

6. We allow nonmotorized boats and boats with electric motors on the WB-10 Ponds (Wahluke Lake), with walk-in access only.

7. You must unload and encase or dismantle firearms before transporting them in a vehicle or boat within the boundaries of the refuge or along public rights of way.

B. Upland Game Hunting. * * *

* * * * *

4. We do not allow hunters or dogs to enter closed areas to retrieve game.

5. You must unload and encase or dismantle firearms before transporting them in a vehicle or boat within the boundaries of the refuge or along public rights of way.

C. Big Game Hunting. We allow hunting of deer and elk on the Wahluke Unit of the Monument/Refuge in accordance with State regulations and subject to the following conditions:

* * * * *

3. We do not allow hunters to enter closed areas to retrieve game.

4. You must unload and encase or dismantle firearms before transporting them in a vehicle or boat within the boundaries of the refuge or along public rights of way.

* * * * *

McNary National Wildlife Refuge

A. Hunting of Migratory Game Birds. We allow hunting of geese, ducks, coots, doves, and common snipe on designated areas of the refuge subject to the following conditions:

1. You may possess no more than 25 approved nontoxic shotshells while in the field.

2. You may not leave decoys and other personal property on the refuge overnight.

3. On the McNary Division, we allow hunting by refuge permit only. This area is open to hunting from 5:00 a.m. to 1½ hours after sunset.

4. On the Wallula and Two Rivers Units, we allow waterfowl hunting 7 days a week during State waterfowl seasons. We allow dove hunting in accordance with State regulations.

5. On the Wallula Unit, we close the Walla Walla Delta to hunting from February 1 to September 30.

6. On the Peninsula Unit we allow dove hunting in accordance with State regulations. We allow waterfowl hunting subject to the following conditions:

i. We allow duck hunting Wednesdays through Sundays only.

ii. We allow goose hunting Wednesdays, Saturdays, and Sundays only.

iii. On Wednesdays we allow waterfowl hunting only from the goose pits.

iv. Hunting on the east side of the peninsula and in the goose pits is by assigned blinds on a first-come, first-served basis.

B. Upland Game Hunting. We allow hunting of upland game on designated areas of the refuge subject to the following conditions:

1. Except on the Peninsula Unit, you may possess no more than 25 approved nontoxic shotshells while on the refuge.

2. On the McNary Division we allow hunting on Wednesdays, Saturdays, Sundays, Thanksgiving Day, Christmas Day, and New Year's Day only. We do not allow hunting until noon of each hunt day. We allow hunting of pheasant and quail only.

3. On the Wallula and Two River Units, we allow upland game hunting in accordance with State regulations.

4. On the Peninsula Unit, we do not allow hunting until noon on legal goose hunting days.

C. Big Game Hunting. We allow hunting of deer only on the Peninsula, Two Rivers, and Wallula Units in accordance with State regulations and subject to the following condition: We allow shotgun and archery hunting only.

D. Sport Fishing. We allow fishing on designated areas of the refuge in accordance with State regulations and subject to the following conditions:

1. On the McNary Division the refuge is open to fishing from sunrise to sunset only. We do not allow use of boats and other flotation devices.

2. We allow fishing only with hook and line.

* * * * *

33. In § 32.69 Wisconsin by adding Whittlesey Creek National Wildlife Refuge to read as follows:

§ 32.69 Wisconsin.

* * * * *

Whittlesey Creek National Wildlife Refuge

A. Hunting of Migratory Game Birds. We allow hunting of migratory game birds on designated areas of the refuge subject to the following conditions:

1. We allow only the use of portable or temporary blinds.

2. You must remove portable or temporary blinds and any material brought on to the refuge for blind construction at the end of each day's hunt.

B. Upland Game Hunting. [Reserved]

C. Big Game Hunting. [Reserved]

D. Sport Fishing. [Reserved]

34. In § 32.70 Wyoming by revising Seedskadee National Wildlife Refuge to read as follows:

§ 32.70 Wyoming.

* * * * *

Seedskadee National Wildlife Refuge

A. Hunting of Migratory Game Birds. We allow hunting of ducks, coots, dark geese, common snipe, rails, and mourning doves on designated areas of the refuge in accordance with State regulations and the following conditions:

1. Waterfowl hunters may enter the refuge 1 hour before legal shooting hours to set up decoys and blinds.

2. You may use only portable blinds or blinds constructed from dead or downed wood. We prohibit digging pit blinds.

3. You must unload and encase or dismantle all firearms when transporting them in a vehicle or boat under power.

4. You may possess only approved nontoxic shot.

B. Upland Game Hunting. We allow hunting of sage grouse, cottontail rabbit, red fox, jackrabbit, raccoon, and skunk on designated areas of the refuge in accordance with State regulations and the following conditions:

1. You must unload and encase or dismantle all firearms when transporting them in a vehicle or boat under power.

2. You may possess only approved nontoxic shot.

3. We prohibit the shooting of prairie dogs, coyotes, and other species not listed above.

C. Big Game Hunting. We allow hunting of pronghorn, mule deer, and moose on designated areas of the refuge in accordance with State regulations and the following condition: You must unload and encase or dismantle all firearms when transporting them in a vehicle or boat under power.

D. Sport Fishing. You may fish on designated areas of the refuge in accordance with State regulations and general refuge regulations.

35. In § 32.72 Guam by adding paragraphs D.5., D.6., and D.7., of Guam National Wildlife Refuge to read as follows:

§ 32.72 Guam.

* * * * *

Guam National Wildlife Refuge

* * * * *

D. Sport Fishing. * * *

* * * * *

5. We prohibit use of Self Contained Underwater Breathing Apparatus (SCUBA) to take fish or invertebrates.

6. We prohibit anchoring boats on the refuge.

7. We prohibit sailboards or motorized personal watercraft on the refuge.

Dated: September 5, 2002.
Craig Manson,
Assistant Secretary for Fish and Wildlife and Parks.

[FR Doc. 02-23678 Filed 9-17-02; 8:45 am]

BILLING CODE 4310-55-P